NATIONAL AERONAUTICS AND SPACE ADMINISTRATION

[Notice 03-145]

Return to Flight Task Group; Meeting

AGENCY: National Aeronautics and Space Administration (NASA).

ACTION: Notice of meeting.

SUMMARY: In accordance with the Federal Advisory Committee Act, Public Law 92-463, as amended, the National Aeronautics and Space Administration announces a meeting of the Return to Flight Task Group (RTFTG).

DATES: Thursday, December 11, 2003, from 9 a.m. until 11 a.m.

ADDRESSES: Nassau Bay Hilton, 3000 NASA Parkway, Houston, TX 77058

FOR FURTHER INFORMATION CONTACT: Mr. David M. Lengyel at (281) 792-7523.

SUPPLEMENTARY INFORMATION: The meeting will be open to the public up to the seating capacity of the meeting room. Attendees will be requested to sign a register.

The agenda for the meeting is as follows:

—Welcome remarks from Chair;

—Status reports from Technical, Operations and Management Panel Chairs on NASA's implementation of all Columbia Accident Investigation Board return to flight findings/recommendations;

—Remarks from Editorial Sub-Panel;

—Action item summary from Executive Secretary; and

—Closing remarks from Chair.

It is imperative that the meeting be held on this date to accommodate the scheduling priorities of the key participants.

June W. Edwards,
Advisory Committee Management Officer, National Aeronautics and Space Administration.

[FR Doc. 03-28296 Filed 11-10-03; 8:45 am]

BILLING CODE 7510-01-P